DEPARTMENT OF VETERANS AFFAIRS

[OMB Control No. 2900-0776]

Agency Information Collection Activity: Artery and Vein Conditions (Vascular Diseases Including Varicose Veins) Disability Benefits Questionnaire, Hypertension Disability Benefits Questionnaire, Non-Ischemic Heart Disease (Including Arrhythmias and Surgery) Disability Benefits Questionnaire, Diabetic Peripheral Neuropathy (Diabetic Sensory-Motor Peripheral Neuropathy) Disability Benefits Questionnaire, Diabetes Mellitus Disability Benefits Questionnaire, Scars/Disfigurement Disability Benefits Questionnaire, Skin Diseases Disability Benefits Questionnaire, Amputations Disability Benefits Questionnaire, Muscles Injuries Disability Benefits Questionnaire, Temporomandibular Joint (TMJ) Conditions Disability Benefits Questionnaire, Eye Conditions Disability Benefits Questionnaire

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

VA Form 21-0960 series is used to gather necessary information from a claimant's treating physician regarding the results of medical examinations. VA gathers medical information related to the claimant that is necessary to adjudicate the claim for VA disability benefits. The Disability Benefit Questionnaire title will include the name of the specific disability for which it will gather information. VAF 21-0960A-2, Artery and Vein Conditions vascular diseases including varicose veins) Disability Benefits Questionnaire, will gather information related to the claimant's diagnosis of arteries, veins, and/or peripheral vascular disease; VAF 21-0960A-3, Hypertension, Disability Benefits Questionnaire, will gather information related to the claimant's diagnosis of hypertension; VAF 21-0960A-4, Non-ischemic Heart Disease (including Arrhythmias and Surgery) Disability Benefits Questionnaire, will gather information related to the claimant's diagnosis of any non-ischemic heart disease; VAF 21-0960C-4, Diabetic Peripheral Neuropathy (diabetic sensory-motor peripheral neuropathy) Disability Benefits Questionnaire will gather information related to the claimant's diagnosis of a diabetic sensory-motor peripheral neuropathy condition; VAF 21-0960E-1, Diabetes Mellitus Disability Benefits Questionnaire, will gather information related to the claimant's diagnosis of diabetes mellitus; VAF 21-0960F-1, Scars/Disfigurement Disability Benefits Questionnaire will gather information related to the claimant's diagnosis of any scars or disfigurement; VAF 21-0960F-2, Skin Diseases Disability Benefits Questionnaire, will gather information related to the claimant's diagnosis of any skin disease. VAF 21-0960M-1 Amputations Disability Benefits Questionnaire, will gather information related to the claimant's amputations; VAF 21-0960M-10 Muscle Injuries Disability Benefits Questionnaire, will gather information related to the claimant's diagnosis of a muscle injury disability. VAF 21-0960M-15 Temporomandibular Joint (TMJ) Conditions Disability Benefits Questionnaire, will gather information related to the claimant's diagnosis of temporomandibular joint dysfunction or TMJ. VAF 21-0960N-2 Eye Conditions Disability Benefits Questionnaire will gather information related to the claimant's diagnosis of an eye condition.

DATES: Written comments and recommendations on the proposed collection of information should be received on or before June 26, 2017.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0776” in any correspondence. During the comment period, comments may be viewed online through the FDMS.

FOR FURTHER INFORMATION CONTACT: Nancy J. Kessinger at (202) 632-8924 or FAX (202) 632-8925.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-21.

Title: (Artery and Vein Conditions (Vascular Diseases Including Varicose Veins) Disability Benefits Questionnaire (VA Form 21-0960A-2), Hypertension Disability Benefits Questionnaire (VA Form 21-0960A-3), Non-Ischemic Heart Disease (Including Arrhythmias and Surgery) Disability Benefits Questionnaire (VA Form 21-0960A-4), Diabetic Peripheral Neuropathy (Diabetic Sensory-Motor Peripheral Neuropathy) Disability Benefits Questionnaire (VA Form 21-0960C-4), Diabetes Mellitus Disability Benefits Questionnaire (VA Form 21-0960E-1), Scars/Disfigurement Disability Benefits Questionnaire (VA Form 21-0960F-1), Skin Diseases Disability Benefits Questionnaire (VA Form 21-0960F-2), Amputations Disability Benefits Questionnaire (VA Form 21-0960M-1), Muscles Injuries Disability Benefits Questionnaire (VA Form 21-0960M-10), Temporomandibular Joint (TMJ) Conditions Disability Benefits Questionnaire (VA Form 21-0960M-15), Eye Conditions Disability Benefits Questionnaire (VA Form 21-0960N-2)).

OMB Control Number: 2900-0776.

Type of Review: Extension of an approved collection.

Abstract: VA Form 21-0960 series is used to gather necessary information from a claimant's treating physician regarding the results of medical examinations. VA gathers medical information related to the claimant that is necessary to adjudicate the claim for VA disability benefits. The Disability Benefit Questionnaire title will include the name of the specific disability for which it will gather information. VAF 21-0960A-2, Artery and Vein Conditions vascular diseases including varicose veins) Disability Benefits Questionnaire, will gather information related to the claimant's diagnosis of arteries, veins, and/or peripheral vascular disease; VAF 21-0960A-3, Hypertension, Disability Benefits Questionnaire, will gather information related to the claimant's diagnosis of hypertension; VAF 21-0960A-4, Non-ischemic Heart Disease (including Arrhythmias and Surgery) Disability Benefits Questionnaire, will gather information related to the claimant's diagnosis of any non-ischemic heart disease; VAF 21-0960C-4, Diabetic Peripheral Neuropathy (diabetic sensory-motor peripheral neuropathy) Disability Benefits Questionnaire will gather information related to the claimant's diagnosis of a diabetic sensory-motor peripheral neuropathy condition; VAF 21-0960E-1, Diabetes Mellitus Disability Benefits Questionnaire, will gather information related to the claimant's diagnosis of diabetes mellitus; VAF 21-0960F-1, Scars/Disfigurement Disability Benefits Questionnaire will gather information related to the claimant's diagnosis of any scars or disfigurement; VAF 21-0960F-2, Skin Diseases Disability Benefits Questionnaire, will gather information related to the claimant's diagnosis of any skin disease. VAF 21-0960M-1 Amputations Disability Benefits Questionnaire, will gather information related to the claimant's amputations; VAF 21-0960M-10 Muscle Injuries Disability Benefits Questionnaire, will gather information related to the claimant's diagnosis of a muscle injury disability. VAF 21-0960M-15 Temporomandibular Joint (TMJ) Conditions Disability Benefits Questionnaire, will gather information related to the claimant's diagnosis of temporomandibular joint dysfunction or TMJ. VAF 21-0960N-2 Eye Conditions Disability Benefits Questionnaire will gather information related to the claimant's diagnosis of an eye condition.

Affected Public: Individuals or households.

Estimated Annual Burden: 162,500.

Estimated Average Burden per Respondent: 25 minutes.

Frequency of Response: One time.

Estimated Number of Respondents: 400,000.

By direction of the Secretary.
Cynthia Harvey-Pryor,
Department Clearance Officer, Enterprise Records Service, Office of Quality and Compliance, Department of Veterans Affairs.

[FR Doc. 2017-08440 Filed 4-25-17; 8:45 am]

BILLING CODE 8320-01-P